DEPARTMENT OF VETERANS AFFAIRS

[OMB Control No. 2900-NEW]

Proposed Information Collection (NCA: Legacy (Historic Resources Education Program Research)); Activity Under OMB Review

AGENCY: National Cemetery Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 27, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (NCA: Legacy (Historic Resources Education Program Research))” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (NCA: Legacy (Historic Resources Education Program Research))”.”

SUPPLEMENTARY INFORMATION:

Title: NCA Legacy (Historic Resources Education Program Research), VA Form 40-10166 Online Survey/Focus Groups.

OMB Control Number: 2900-NEW.

Type of Review: New collection.

Abstract: VA Survey Form 40-10166 and Focus Group interviews will be used to collect information from academic and non-academic stakeholders. These audiences include, but are not limited to middle school and high school students and teachers, university students and professors, historic associations, veterans associations, libraries, and organizations that serve amateur genealogists. The program will increase public access to historic resources in national cemeteries and, in doing so it will also increase public awareness of the legacy of the sacrifices of our nation's veterans. An agency may not conduct or sponsor, and a person is not required to respond to a collection of information unless it displays a currently valid OMB control number. The Federal Register Notice with a 60-day comment period soliciting comments on this collection of information was published at 80 FR 148 on August 3, 2015.

Affected Public: Individuals or households.

Estimated Annual Burden: 158 hours.

Estimated Average Burden per Respondent: Online Survey—50 hours, Focus Groups—108 hours.

Frequency of Response: Annually.

Estimated Number of Respondents: 254.

By direction of the Secretary.
Kathleen M. Manwell,
Program Analyst, VA Privacy Service, Office of Privacy and Records Management, Department of Veterans Affairs.

[FR Doc. 2015-27207 Filed 10-26-15; 8:45 am]

BILLING CODE 8320-01-P